DEPARTMENT OF COMMERCE

International Trade Administration

[A-489-815]

Light-Walled Rectangular Pipe and Tube From Turkey: Extension of Time Limits for Preliminary Results of Antidumping Duty Administrative Review

AGENCY: Import Administration, International Trade Administration, Department of Commerce.

DATES: Effective Date: January 27, 2012.

FOR FURTHER INFORMATION CONTACT: Mark Flessner or Robert James, AD/CVD Enforcement Office 7, Import Administration, International Trade Administration, U.S. Department of Commerce, 14th Street and Constitution Avenue NW., Washington, DC 20230; telephone: (202) 482-6312 and (202) 482-0649, respectively.

SUPPLEMENTARY INFORMATION:

Background

On June 28, 2011, the Department published a notice of initiation of an antidumping duty administrative review for, inter alia, light-walled rectangular pipe and tube from Turkey for the May 1, 2010, through April 30, 2011, period of review (POR). See Initiation of Antidumping and Countervailing Duty Administrative Reviews and Request for Revocation in Part, 76 FR 37781 (June 28, 2011) (Initiation Notice). This review covers Noksel Celik Boru Sanayi A.S. (Noksel). The preliminary results for this administrative review are due no later than January 31, 2012.

Extension of Time Limit for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department has determined it is not practicable to complete this review within the statutory time limit because of significant issues that require additional time to evaluate. These include complicated issues involving Noksel's sales terms, use of multiple currencies in both markets, duty drawback claims, and certain movement expenses. The Department requires additional time to analyze sufficiently information submitted by the respondent in this administrative review. Accordingly, the Department is extending the time limit for completion of the preliminary results of this administrative review until no later than May 30, 2012, which is 120 days from the January 31, 2012, deadline and less than 365 days after the last day of the anniversary month of the order for which this review was requested. The final results continue to be due 120 days after publication of the preliminary results.

This notice is issued and published in accordance with section 351.213(d)(4) of the Department's regulations and sections 751(a)(3)(A) and 777(i)(1) of the Act.

Dated: January 20, 2012.
Christian Marsh,
Deputy Assistant Secretary for Antidumping and Countervailing Duty Operations.

[FR Doc. 2012-1811 Filed 1-26-12; 8:45 am]

BILLING CODE 3510-DS-P